DEPARTMENT OF TRANSPORTATION

Federal Aviation Administration

14 CFR Part 39

[Docket No. FAA-2004-19757; Directorate Identifier 2001-NM-273-AD; Amendment 39-14024; AD 2005-06-04]

RIN 2120-AA64

Airworthiness Directives; British Aerospace Model BAe 146 and Model Avro 146-RJ Series Airplanes

AGENCY: Federal Aviation Administration (FAA), Department of Transportation (DOT).

ACTION: Final rule.

SUMMARY: The FAA is superseding an existing airworthiness directive (AD), which applies to certain British Aerospace Model BAe 146 and Model Avro 146-RJ series airplanes. That AD currently requires a one-time measurement of the thickness of the outer links on the side stays of the main landing gear (MLG), and related investigative and corrective actions as necessary; and provides for replacement of a thin outer link with a new or serviceable part in lieu of certain related investigative inspections. This new AD requires repetitive inspections for cracking of the outer links on the MLG side stays, and corrective actions if necessary. This new action also expands the applicability, provides for optional terminating action for the repetitive inspections, and reduces the repetitive inspection interval. This AD is prompted by new crack findings on airplanes not subject to the existing AD, and the determination that the profile gauge's slipping over the outer link profile is not a factor in the identified unsafe condition. We are issuing this AD to prevent cracking of the outer links of the MLG side stays, which could result in failure of a side stay and consequent collapse of the landing gear.

DATES: This AD becomes effective May 2, 2005.

The incorporation by reference of a certain publication listed in the AD is approved by the Director of the Federal Register as of May 2, 2005.

ADDRESSES: For service information identified in this AD, contact British Aerospace Regional Aircraft American Support, 13850 Mclearen Road, Herndon, Virginia 20171.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street, SW., room PL-401, Washington, DC. This docket number is FAA-2004-19757; the directorate identifier for this docket is 2001-NM-273-AD.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION: The FAA proposed to amend part 39 of the Federal Aviation Regulations (14 CFR part 39) with an AD to supersede AD 99-17-12, amendment 39-11260 (64 FR 45870, August 23, 1999). The existing AD applies to certain British Aerospace Model BAe 146 and Model Avro 146-RJ series airplanes. The proposed AD was published in the Federal Register on December 1, 2004 (69 FR 69829), to require a one-time measurement of the thickness of the outer links on the side stays of the main landing gear (MLG), and related investigative and corrective actions as necessary; and provides for replacement of a thin outer link with a new or serviceable part in lieu of certain related investigative inspections. The proposed AD also expanded the applicability of the existing AD, provided for optional terminating action for the repetitive inspections, and reduced the repetitive inspection interval.

Comments

We provided the public the opportunity to participate in the development of this AD. We have considered the comment that has been submitted on the proposed AD.

Request To Correct Typographical Error in Preamble

The commenter recommends the correction of a typographical error that appears in the Secondary Service Information table in the proposed AD. (That table is included in the Relevant Service Information section of the preamble of the proposed AD). The commenter notes that one of the column headers references BAE Systems (Operations) Limited Inspection Service Bulletin ISB.32-1536, but that the correct citation is ISB.32-156. The commenter suggests correcting the typographical error to eliminate any confusion to anyone who reads the proposed AD.

We agree with the commenter's concern and acknowledge that the typographical error did appear in the published versions of the proposed AD. The Secondary Service Information table is not restated in this AD, so no change is possible regarding this issue.

Changes to This AD

In order to comply with the service information citation guidelines of the Office of the Federal Register, we have revised Notes 2 and 3 of this AD. In Note 2 we changed the citation from “BAE Inspection Service Bulletin ISB.32-156” to “BAE Systems (Operations) Limited Inspection Service Bulletin ISB.32-156, Revision 1, dated July 3, 2001.” In Note 3 we made that same change; revised “32-162-70657CD” to “SB.32-162-70657C.D;” clarified that Messier-Dowty Repair Scheme 450187952 is included in Section 32-10-65 of the Messier-Dowty 201105001 and 201105002 Component Maintenance Manual, and Section 32-10-73 of the Messier-Dowty 201299001 and 201299002 Component Maintenance Manual; and corrected the manufacturer name and document number for SB.32-144.

Conclusion

We have carefully reviewed the available data, including the comment that has been submitted, and determined that air safety and the public interest require adopting the AD with the changes described previously. We have determined that these changes will neither increase the economic burden on any operator nor increase the scope of the AD.

Costs of Compliance

The following table provides the estimated costs for U.S. operators to comply with this proposed AD.

Estimated Costs
Action | Work hours | Average hourly labor rate | Parts | Cost per airplane | Number of U.S.-registered airplanes | Fleet cost
Inspection | 1 | $65 | None | $65, per inspection cycle | 60 | $3,900, per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-11260 (64 FR 45870, August 23, 1999), and by adding the following new airworthiness directive (AD):

2005-06-04 BAE Systems (Operations) Limited (Formerly British Aerospace Regional Aircraft): Amendment 39-14024. Docket No. FAA-2004-19757; Directorate Identifier 2001-NM-273-AD.

Effective Date

(a) This AD becomes effective May 2, 2005.

Affected ADs

(b) This AD supersedes AD 99-17-12, amendment 39-11260 (64 FR 45870, August 23, 1999).

Applicability

(c) This AD applies to Model BAe 146 and Avro 146-RJ series airplanes, certificated in any category, having any side stay identified in Messier-Dowty Service Bulletin 146-32-147, dated May 29, 2001.

Unsafe Condition

(d) This AD was prompted by new crack findings on airplanes not subject to the existing AD, and the determination that the profile gauge's slipping over the outer link profile is not a factor in the identified unsafe condition. We are issuing this AD to prevent cracking of the outer links of the MLG side stays, which could result in failure of a side stay and consequent collapse of the landing gear.

Compliance

(e) You are responsible for having the actions required by this AD performed within the compliance times specified, unless the actions have already been done.

Inspection

(f) At the applicable time specified in paragraph (f)(1) or (f)(2) of this AD: Perform a detailed inspection for cracks of the outer links on the MLG side stays, in accordance with the Accomplishment Instructions of BAE Systems (Operations) Limited Inspection Service Bulletin ISB.32-156, Revision 1, dated July 3, 2001. Repair cracks before further flight in accordance with the service bulletin. Thereafter, repeat the inspection at intervals not to exceed 2,000 flight cycles, until the actions specified in paragraph (g) of this AD have been done. Although the service bulletin specifies to report certain information to the manufacturer, this AD does not require a report.

(1) If the number of flight cycles accumulated on the side stay can be positively determined: Inspect before the accumulation of 2,000 total flight cycles on the side stay, or within 500 flight cycles after the effective date of this AD, whichever occurs later.

(2) If the number of flight cycles accumulated on the side stay cannot be positively determined: Inspect within 500 flight cycles after the effective date of this AD.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Note 2: BAE Systems (Operations) Limited Inspection Service Bulletin ISB.32-156, Revision 1, dated July 3, 2001, refers to Messier-Dowty Service Bulletin 146-32-147, dated May 29, 2001, as an additional source of service information for the inspection.

Optional Terminating Action

(g) Relocation of each affected grease nipple to the upper surface of the outer link of the MLG side stays terminates the repetitive inspection requirements of this AD, if the relocation action is done in accordance with paragraph 2.C. of the Accomplishment Instructions of BAE Systems (Operations) Limited Inspection Service Bulletin ISB.32-156, Revision 1, dated July 3, 2001.

Note 3: BAE Systems (Operations) Limited Inspection Service Bulletin ISB.32-156, Revision 1, dated July 3, 2001; refers to BAE Systems (Operations) Limited Modification Service Bulletin SB.32-162-70657C.D, dated September 26, 2001; Messier-Dowty Repair Scheme 450187952, included in Section 32-10-65 of the Messier-Dowty 201105001 and 201105002 Component Maintenance Manual, and Section 32-10-73 of the Messier-Dowty 201299001 and 201299002 Component Maintenance Manual; and British Aerospace Service Bulletin SB.32-144, dated December 11, 1996; as additional sources of service information for accomplishment of the actions associated with the relocation specified in paragraph (g) of this AD.

Parts Installation

(h) As of the effective date of this AD, no person may install on any airplane an MLG side stay having a part number identified in paragraph 1.A. of Messier-Dowty Service Bulletin 146-32-147, dated May 29, 2001, unless that part has been inspected and all applicable related investigative and corrective actions have been performed in accordance with the requirements of this AD.

Alternative Methods of Compliance (AMOCs)

(i) The Manager, International Branch, ANM-116, Transport Airplane Directorate, FAA, has the authority to approve AMOCs for this AD, if requested in accordance with the procedures found in 14 CFR 39.19.

Related Information

(j) British airworthiness directive 004-05-2001 also addresses the subject of this AD.

Material Incorporated by Reference

(k) You must use BAE Systems (Operations) Limited Inspection Service Bulletin ISB.32-156, Revision 1, dated July 3, 2001, to perform the actions that are required by this AD, unless the AD specifies otherwise. The Director of the Federal Register approves the incorporation by reference of this document in accordance with 5 U.S.C. 552(a) and 1 CFR part 51. For copies of the service information, contact British Aerospace Regional Aircraft American Support, 13850 Mclearen Road, Herndon, Virginia 20171. You may view the AD docket at the Docket Management Facility, U.S. Department of Transportation, 400 Seventh Street SW., room PL-401, Nassif Building, Washington, DC. To review copies of the service information, go to the National Archives and Records Administration (NARA). For information on the availability of this material at the NARA, call (202) 741-6030, or go to http://www.archives.gov/federal_register/code_of_federal_regulations/ibr_locations.html.

Issued in Renton, Washington, on March 14, 2005.
Ali Bahrami,
Manager, Transport Airplane Directorate, Aircraft Certification Service.

[FR Doc. 05-5575 Filed 3-25-05; 8:45 am]

BILLING CODE 4910-13-P